NUCLEAR REGULATORY COMMISSION

Advisory Committee on Nuclear Waste; Notice of Meeting

The Advisory Committee on Nuclear Waste (ACNW) will hold its 158th meeting on March 15-17, 2005, Room T-2B3, Two White Flint North, 11545 Rockville Pike, Rockville, Maryland. The date of this meeting was previously published in the Federal Register on Wednesday, December 8, 2004 (69 FR 71084).

The schedule for this meeting is as follows:

Tuesday, March 15, 2005

10:30 a.m.-10:40 a.m.: Opening Statement (Open)—The ACNW Chairman will make opening remarks regarding the conduct of today's sessions.

10:40 a.m.-11:40 a.m.: Preparation of ACNW Reports (Open)—The Committee will discuss potential letter report on the Status of High-Significant Agreements Associated with the Proposed HLW Repository. Other potential letter reports may be discussed.

1 p.m.-3 p.m.: Preparation for the March 16, 2005 Briefing with NRC Commissioners (Open)—The Committee will review the briefing materials to be discussed with the Commission on March 16, 2005.

3 p.m.-5 p.m.: Preparation for Visit to the Center for Nuclear Waste Regulatory Analyses (CNWRA) (Open)—The Committee will review its preparation for its planned visit to the CNWRA in San Antonio, Texas on April 14-15, 2005. The purpose of this visit is to review the technical assistance work being performed on behalf of the NRC's Office of Nuclear Material Safety and Safeguards.

Wednesday, March 16, 2005

8:30 a.m.-9 a.m.: Final Preparation for Commission Briefing (Open).

9:30 a.m.-11:30 a.m.: Meeting with the NRC Commissioners (Open)—The Committee will meet with the NRC Commissioners in the Commission's Conference Room, One White Flint North. The outline for this proposed meeting is as follows:

• Introductory Remarks.

• Working Group Meetings.

• ICRP Draft Recommendations.

• Waste Management Research Review.

• Future Activities/Working Groups.

• 2005 ACNW Action Plan.

1 p.m.-1:10 p.m.: Opening Statement (Open)—The ACNW Chairman will begin the meeting with brief opening remarks, outline the topics to be discussed, and indicate items of interest.

1:10 p.m.-2:40 p.m.: Estimation of Groundwater Recharge at the Watershed Scale: Implications for Model Abstractions and Validations (Open)—The ACNW will hear presentations by and hold discussions with representatives of the Office of Nuclear Regulatory Research and Department of Agriculture/Agricultural Research Service staff on field studies to test and evaluate groundwater recharge estimation techniques, methods, and their uncertainties.

2:40 p.m.-3:40 p.m.: NMSS Office Director Semi-Annual Briefing (Open)—The Committee will be briefed by the Director of the Office of Nuclear Material Safety and Safeguards on recent activities of interest to the Committee.

4 p.m.-5 p.m.: Status of NRC's Review of USEC Inc.'s License Application for a Gas Centrifuge Uranium Enrichment Facility (Open)—The Committee will receive a briefing by an NMSS representative on the status of the license application for the proposed facility in Piketon, Ohio.

5 p.m.-6 p.m.: Preparation of ACNW Reports (Open)—The Committee will discuss potential reports on the Estimation of Groundwater Recharge Techniques and Status of USEC Inc.'s License Application for a Gas Centrifuge Uranium Enrichment Facility.

Thursday, March 17, 2005

8:30 a.m.-8:40 a.m.: Opening Statement (Open)—The ACNW Chairman will make opening remarks regarding the conduct of today's sessions.

8:40 a.m.-11 a.m.: Preparation for ACNW May 2005 Visit to Japan (Open)—The Committee will review preparations for its planned visit to Japan on May 14-21, 2005. The purpose of this visit is to meet with representatives of the Japan Nuclear Safety Commission (Tokyo). In addition, the Committee will meet with the operators of the Rokkasyo-Mura low-level radioactive waste reprocessing and disposal facility. Members will also meet with representatives of the Japan Atomic Energy Research Institute, the Japan Nuclear Cycle Development Institute, the Nuclear and Industrial Safety Agency, Japan Nuclear Fuel Limited, and the Nuclear Waste Management Organization of Japan.

1 p.m.-1:30 p.m.: ACNW White Paper on Low-Level Radioactive Waste Management Issues (Open)—The Committee will discuss the format and content of a potential ACNW White Paper addressing technical issues in the management of civilian low-level radioactive waste.

1:30 p.m.-3 p.m.: Miscellaneous (Open)—The Committee will discuss matters related to the conduct of ACNW activities, and specific issues that were not completed during previous meetings, as time and availability of information permit. Discussions may include future Committee Meetings.

Procedures for the conduct of and participation in ACNW meetings were published in the Federal Register on October 18, 2004 (69 FR 61416). In accordance with these procedures, oral or written statements may be presented by members of the public. Electronic recordings will be permitted only during those portions of the meeting that are open to the public. Persons desiring to make oral statements should notify Ms. Sharon A. Steele, (Telephone 301-415-6805), between 7:30 a.m. and 4 p.m. ET, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office prior to the meeting. In view of the possibility that the schedule for ACNW meetings may be adjusted by the Chairman as necessary to facilitate the conduct of the meeting, persons planning to attend should notify Ms. Steele as to their particular needs.

Further information regarding topics to be discussed, whether the meeting has been canceled or rescheduled, the Chairman's ruling on requests for the opportunity to present oral statements and the time allotted, therefore can be obtained by contacting Ms. Steele.

ACNW meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: March 4, 2005.
Annette Vietti-Cook,
Secretary of the Commission.

[FR Doc. 05-4667 Filed 3-9-05; 8:45 am]

BILLING CODE 7590-01-P